Title 3—

The President

Presidential Determination No. 2015-09 of July 10, 2015

Designation of the Republic of Tunisia as a Major Non-NATO Ally

Memorandum for the Secretary of State

Consistent with the authority vested in me as President by section 517 of the Foreign Assistance Act of 1961, as amended (the “Act”), I hereby designate the Republic of Tunisia as a major Non-NATO Ally of the United States for the purposes of the Act and the Arms Export Control Act.

You are authorized and directed to publish this determination in the Federal Register.

THE WHITE HOUSE,

Washington, July 10, 2015

[FR Doc. 2015-18193

Filed 7-22-15; 8:45 am]

Billing code 4710-10